DEPARTMENT OF THE INTERIOR

National Park Service

[NPS-WASO-NRNHL-DTS#-25684; PPWOCRADI0, PCU00RP14.R50000]

National Register of Historic Places; Notification of Pending Nominations and Related Actions

AGENCY: National Park Service, Interior.

ACTION: Notice.

SUMMARY: The National Park Service is soliciting comments on the significance of properties nominated before May 26, 2018, for listing or related actions in the National Register of Historic Places.

DATES: Comments should be submitted by July 3, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before May 26, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Sonoma County

Cunningham—Hembree Estate, 9225 Foxwood Dr., Windsor, SG100002638

NEW HAMPSHIRE

Carroll County

Eagle Cliff (Squam MPS), Address Restricted, Sandwich vicinity, MP100002640

Jimmy Point Camp (Squam MPS), Address Restricted, Sandwich vicinity, MP100002641

Lucknow, 455 Old Mountain Rd., Moultonborough, SG100002642

OHIO

Jackson County

Battle of Berlin Heights Engagement Site (Morgan's Raid in Kentucky, Indiana and Ohio MPS), E½ NW¼ & W½ NE¼ S19, T7NR17W, Berlin Crossroads vicinity, MP100002645

OREGON

Washington County

Shute—Meierjurgen Farmstead, 4825 NE Starr Blvd., Hillsboro vicinity, SG100002647

WISCONSIN

Sheboygan County

Rietz, Charles T. and Gertrude, House, W6582 State Trunk Hwy. 144, Silver Creek, SG100002649

An owner objection received for the following resource:

CALIFORNIA

Ventura County

Top Hat Hot Dog Stand, 297-299 E Main St., Ventura, SG100002639

Additional documentation has been received for the following resource:

OHIO

Stark County

Stewart, Harry Bartlett, Property, 13480 Congress Lake Rd., Hartville vicinity, AD82003653

Authority: Section 60.13 of 36 CFR part 60.

Dated: May 30, 2018.
Christopher Hetzel,
Acting Chief, National Register of Historic Places/National Historic Landmarks Program.

[FR Doc. 2018-12924 Filed 6-15-18; 8:45 am]

BILLING CODE 4312-52-P